NUCLEAR REGULATORY COMMISSION

[Docket Nos. 50-373 and 50-374; NRC-2011-0051]

Exelon Generation Company, LLC Notice of Withdrawal of Application for Amendment to Facility Operating License

The U.S. Nuclear Regulatory Commission (NRC, the Commission) has granted the request of Exelon Generation Company, LLC (Exelon, or the licensee) to withdraw its February 22, 2010 application for proposed amendment to Facility Operating License No. NPF-11 and Facility Operating License No. NPF-18 for LaSalle County Station, Units 1 and 2, respectively, in LaSalle County, Illinois.

The proposed amendment would have relocated selected Surveillance Requirement frequencies from the LaSalle County Station Units 1 and 2 Technical Specifications (TSs) to a licensee-controlled program. The Commission had previously issued a Notice of Consideration of Issuance of Amendment published in the Federal Register on April 20, 2010 (75 FR 20637). However, by letter dated February 22, 2011, the licensee withdrew the proposed change.

For further details with respect to this action, see the application for amendment dated February 22, 2010, and the licensee's letter dated February 22, 2011, which withdrew the application for license amendment. Documents may be examined, and/or copied for a fee, at the NRC's Public Document Room (PDR), located at One White Flint North, Room O1-F21, 11555 Rockville Pike (first floor), Rockville, Maryland 20852. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 28th day of February 2011.
For the Nuclear Regulatory Commission.
Eva A. Brown,
Senior Project Manager, Plant Licensing Branch III-2, Division of Operating Reactor Licensing, Office of Nuclear Reactor Regulation.

[FR Doc. 2011-4982 Filed 3-3-11; 8:45 am]

BILLING CODE 7590-01-P